DEPARTMENT OF HOMELAND SECURITY

[Docket No. DHS-2021-0006]

Determination of a National Emergency Requiring Actions To Protect the Safety of Americans Using and Employed by the Transportation System

AGENCY: Office of the Secretary, DHS.

ACTION: Notice.

SUMMARY: In consultation with public health officials and consistent with the January 21, 2021 Executive Order on Promoting COVID-19 Safety in Domestic and International Travel and the January 29, 2021 Order by the U.S. Centers for Disease Control and Prevention announcing a requirement for persons to wear masks while on conveyances and at transportation hubs, the Acting Secretary of Homeland Security on January 27, 2021, issued a Declaration of a National Emergency Requiring Actions to Protect the Safety of Americans Using and Employed by the Transportation System (“declaration”). The declaration finds that a national emergency exists and directs the Transportation Security Administration to take certain actions to promote safety in and to secure the transportation system and to mitigate the spread of COVID-19 through the transportation system. The text of the declaration is set out below.

Christina E. McDonald,
Federal Register Liaison, U.S. Department of Homeland Security.

BILLING CODE 9110-9M-P

[FR Doc. 2021-02359 Filed 2-3-21; 8:45 am]

BILLING CODE 9110-9M-C